DEPARTMENT OF COMMERCE

National Oceanic and Atmospheric Administration

50 CFR Part 679

[Docket No. 000623193-0193-01; I.D. 060800D]

Fisheries of the Exclusive Economic Zone Off Alaska; Prohibited Species Catch in the Bering Sea and Aleutian Islands

AGENCY: National Marine Fisheries Service (NMFS), National Oceanic and Atmospheric Administration (NOAA), Commerce.

ACTION: Final 2000 harvest specifications; technical amendment.

SUMMARY: NMFS issues a technical amendment to the Final 2000 Harvest Specifications for Groundfish for the Bering Sea and Aleutian Islands (BSAI). A revision to Table 7 of the Final 2000 Harvest Specifications, which is prohibited species bycatch allowances for the BSAI trawl and non-trawl groundfish fisheries, is necessary to reflect reduced prohibited species bycatch allowances under Amendment 57 to the Fishery Management Plan for the Groundfish Fishery of the Bering Sea and Aleutian Islands Area (FMP).

DATES: Effective June 15, 2000, through 2400 hrs A.l.t. December 31, 2000.

FOR FURTHER INFORMATION CONTACT: Andrew N. Smoker, 907-586-7228.

SUPPLEMENTARY INFORMATION: NMFS manages the groundfish fishery in the BSAI according to the FMP prepared by the North Pacific Fishery Management Council (Council) under authority of the Magnuson-Stevens Fishery Conservation and Management Act. Regulations governing fishing by U.S. vessels in accordance with the FMP appear at subpart H of 50 CFR part 600 and 50 CFR part 679.

The Council, at its December 1999 meeting, recommended that the Final 2000 Harvest Specifications include prohibited species bycatch allowances proportionally reduced to reflect reduced prohibited species catch (PSC) limits under pending Amendment 57. Because the Final Harvest Specifications for Groundfish of the BSAI (65 FR 8282, February 18, 2000) were issued prior to Amendment 57 being approved by NMFS and implemented by regulations, the specifications set forth prohibited species bycatch allowances for the BSAI trawl fisheries based on the following pre-FMP Amendment 57 PSC limits: Pacific halibut, 3,775 mt; Zone 1 red king crab, 100,000 animals; Chionoecetes (C.) opilio, 4,500,000 animals; C. bairdi Zone 1, 900,000; and C. bairdi Zone 2, 2,550,000 animals.

Under the regulations implementing Amendment 57 to the FMP (65 FR 31105, May 16, 2000), which became effective June 15, 2000, the 2000 Pacific halibut and crab PSC limits for the BSAI trawl fisheries were reduced to the following amounts: Pacific halibut, 3,675 mt; Zone 1 red king crab, 97,000 animals; C. opilio, 4,350,000 animals; C. bairdi Zone 1,830,000; and C. bairdi Zone 2, 2,520,000 animals. The corresponding prohibited species bycatch allowances were reduced proportionally.

This technical amendment revises Table 7 of the Final 2000 Harvest Specifications for Groundfish of the BSAI accordingly to read as follows:

Table 7.—Prohibited Species Bycatch Allowances for the BSAI Trawl and Non-Trawl Fisheries ¹
[All amounts are in metric tons]
| Prohibited Species and Zone: Halibut mortality (mt) BSAI | Prohibited Species and Zone: Herring (mt) BSAI | Prohibited Species and Zone: Red King Crab (animals) Zone 1 | Prohibited Species and Zone: C. opilio (animals) COBLZ ² | Prohibited Species and Zone: C. bairdi (animals): Zone 1 | Prohibited Species and Zone: C. bairdi (animals): Zone 2
Trawl Fisheries:
Yellowfin sole | 886 | 169 | 11655 | 2,876,579 | 288,750 | 1,514,683
January 20-March 31 | 262
April 1-May 20 | 196
May 21-July 3 | 48
July 4-December 31 | 380
Rocksole/oth. flat/flat sole ³ | 779 | 24 | 42,090 | 869,934 | 309,326 | 504,894
January 20-March 31 | 448
April 1-July 31 | 64
July 4-December 31 | 167
Turbot/sablefish/arrowtooth ⁴ |  | 11 |  | 41,043
Rockfish (July 4-December 31) ⁵ | 69 | 9 |  | 41,043 |  | 10,024
Pacific cod | 1,434 | 24 | 11,656 | 123,529 | 154,856 | 275,758
Pollock/Atka/other ⁶ | 232 | 1,616 | 1,660 | 71,622 | 14,818 | 25,641
RKC savings subarea ³ |  | 22,665 |  |  |  |
Total Trawl PSC | 3,400 | 1,853 | 89,725 | 4,023,750 | 767,750 | 2,331,000
Non-Trawl Fisheries:
Pacific cod—Total | 748
Jan. 1-April 30 ⁷ | 7457
May 1-August 31 | 0
Sept. 1-Dec. 31 | 291
Other non-trawl—Total | 84
May 1-December 31 | 84
Groundfish pot & jig | Exempt
Sablefish hook-&-line | Exempt
Total Non-Trawl | 833
PSQ Reserve ⁸ | 343 |  | 7,275 | 326,250 | 62,250 | 189,000
Grand Total | 4,675 | 1,853 | 97,000 | 4,350,000 | 830,000 | 2,520,000
¹ Refer to § 679.2 for definitions of areas.
² C. opilio Bycatch Limitation Zone. Boundaries are defined at § 679.21(e)(7)(iv)(B).
³ The Council at its December 1999 meeting recommended limiting red king crab for trawl fisheries within the RKCSS to 35 percent of the total allocation to the rock sole, flathead sole, and other flatfish fishery category (§ 679.21(e)(3)(ii)(B)).
⁴ Greenland turbot, arrowtooth flounder, and sablefish fishery category.
⁵ The Council at its December 1999 meeting recommended apportioning the rockfish PSC amounts from July 4-December 31, to prevent fishing for rockfish before July 4, 2000.
⁶ Pollock, Atka mackerel, and “other species” fishery category.
⁷ Any unused halibut PSC from the first trimester may be rolled over into the third trimester.
⁸ With the exception of herring, 7.5 percent of each PSC limit is allocated to the multi-species CDQ program as PSQ reserve. The PSQ reserve is not allocated by fishery, gear or season.

Classification

Because this technical amendment merely revises a table in the specifications to reflect new allowances under a previous final rule, pursuant to 5 U.S.C. 5539(b)(B), the Assistant Administrator for Fisheries, NOAA, finds, for good cause, that it is unnecessary to provide prior notice and opportunity for public comment in that no useful purpose would be served.

In addition, because this is a non-substantive rule, under 5 U.S.C. 553(d), a 30-day delay in effectiveness is not required.

Because prior notice and opportunity for public comment are not required for this rule by 5 U.S.C. 533, or any other law, the analytical requirements of the Regulatory Flexibility Act, 5 U.S.C. 601 et seq. are inapplicable.

This action is required by § 679.20 and is exempt from review under E.O. 12866.

Authority: 16 U.S.C. 1801 et seq.

Dated: July 3, 2000.
Penelope D. Dalton,
Assistant Administrator for Fisheries, National Marine Fisheries Service.

[FR Doc. 00-17269 Filed 7-7-00; 8:45 am]

BILLING CODE 3510-22-P